SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Water Source Approval—Issued Under 18 CFR 806.22(e)

1. The Hershey Company; Y&S Candies; ABR-202107003, East Hempfield Township, Lancaster County, Pa.; Consumptive use of up to 0.450 mgd; Approval Date: July 20, 2021.

Water Source Approval—Issued Under 18 CFR 806.22(f)

1. Chesapeake Appalachia, L.L.C; Pad ID: ACW; ABR-201107004.R2; Leroy Township, Bradford County, Pa.; Consumptive Use of Up to 7.5000 mgd; Approval Date: July 14, 2021.

2. Chief Oil & Gas, LLC.; Pad ID: Belawske; ABR-201107002.R2; Burlington Township, Bradford County, Pa.; Consumptive Use of Up to 7.5000 mgd; Approval Date: July 14, 2021.

3. Chief Oil & Gas, LLC.; Pad ID: Kuziak Drilling Pad #1; ABR-201107028.R2; Fox Township, Sullivan County, Pa.; Consumptive Use of Up to 2.0000 mgd; Approval Date: July 14, 2021.

4. BKV Operating, LLC; Pad ID: Giangrieco Pad; ABR-201107011.R2; Forest Lake Township, Susquehanna County; Pa.; Consumptive Use of Up to 5.0000 mgd; Approval Date: July 14, 2021.

5. Cabot Oil & Gas Corporation; Pad ID: GreenwoodR P2; ABR-201605002.R1; Bridgewater Township, Susquehanna County, Pa.; Consumptive Use of Up to 5.0000 mgd; Approval Date: July 14, 2021.

6. Cabot Oil & Gas Corporation; Pad ID: LopatofskyJ P1; ABR-201105015.R1; Springville Township, Susquehanna County, Pa.; Consumptive Use of Up to 5.0000 mgd; Approval Date: July 14, 2021.

7. Seneca Resources Company, LLC; Pad ID: DCNR 007 Pad G; ABR-201605005.R1; Shippen Township, Tioga County, Pa.; Consumptive Use of Up to 4.0000 mgd; Approval Date: July 14, 2021.

8. Chesapeake Appalachia, L.L.C.; Pad ID: Burns; ABR-201107038.R2; Ulster Township, Bradford County, Pa.; Consumptive Use of Up to 7.5000 mgd; Approval Date: July 15, 2021.

9. Chesapeake Appalachia, L.L.C.; Pad ID: Layton; ABR-201107037.R2; Litchfield Township, Bradford County, Pa.; Consumptive Use of Up to 7.5000 mgd; Approval Date: July 15, 2021.

10. Chesapeake Appalachia, L.L.C.; Pad ID: Oilcan; ABR-201106013.R2; Overton Township, Bradford County, Pa.; Consumptive Use of Up to 7.5000 mgd; Approval Date: July 15, 2021.

11. Chesapeake Appalachia, L.L.C.; Pad ID: SJW; ABR-201107003.R2; Wilmot Township, Bradford County, Pa.; Consumptive Use of Up to 7.5000 mgd; Approval Date: July 15, 2021.

12. Range Resources—Appalachia LLC; Pad ID: Shipman-Goodwill Unit #1H-#4H Drilling Pad; ABR-201104016.R2; Lewis Township, Lycoming County, Pa.; Consumptive Use of Up to 4.0000 mgd; Approval Date: July 15, 2021.

13. Chesapeake Appalachia, L.L.C.; Pad ID: A&M Pad; ABR-202107002; Wilmot Township, Bradford County, Pa.; Consumptive Use of Up to 7.5000 mgd; Approval Date: July 19, 2021.

14. XTO Energy, Inc.; Pad ID: Buck Unit A; ABR-201107041.R2; Penn Township, Lycoming County, Pa.; Consumptive Use of Up to 4.0000 mgd; Approval Date: July 21, 2021.

15. Seneca Resources Company, LLC; Pad ID: Gamble Pad R; ABR-201606001.R1; Eldred Township, Lycoming County, Pa.; Consumptive Use of Up to 4.0000 mgd; Approval Date: July 21, 2021.

16. Seneca Resources Company, LLC; Pad ID: Drake 274; ABR-201106003.R2; Lawrence Township, Tioga County, Pa.; Consumptive Use of Up to 4.0000 mgd; Approval Date: July 21, 2021.

17. Range Resources—Appalachia, LLC; Pad ID: Mohawk South Unit Well Pad; ABR-201606002.R1; Gallagher Township, Clinton County, Pa.; Consumptive Use of Up to 4.0000 mgd; Approval Date: July 21, 2021.

18. ARD Operating, LLC; Pad ID: Larrys Creek F&G Pad C; ABR-201105014.R2; Cummings Township, Lycoming County, Pa.; Consumptive Use of Up to 4.0000 mgd; Approval Date: July 26, 2021.

19. Chesapeake Appalachia, L.L.C.; Pad ID: Fisher; ABR-201107047.R2; Wysox Township, Bradford County, Pa.; Consumptive Use of Up to 7.5000 mgd; Approval Date: July 26, 2021.

20. Chesapeake Appalachia, L.L.C.; Pad ID: Paul; ABR-201107048.R2; Ulster Township, Wyoming County, Pa.; Consumptive Use of Up to 7.5000 mgd; Approval Date: July 26, 2021.

21. Chief Oil & Gas, LLC; Pad ID: Jacobson Unit Pad; ABR-201607002.R1; Franklin Township, Bradford County, Pa.; Consumptive Use of Up to 2.5000 mgd; Approval Date: July 28, 2021.

22. Chief Oil & Gas, LLC; Pad ID: Hemlock Hunting Club B Drilling Pad #1; ABR-201607001.R1; Elkland Township, Sullivan County, Pa.; Consumptive Use of Up to 2.5000 mgd; Approval Date: July 28, 2021.

23. Seneca Resources Company, LLC; Pad ID: D08-M; ABR-201507007.R1; Norwich Township, McKean County, Pa.; Consumptive Use of Up to 4.0000 mgd; Approval Date: July 28, 2021.

24. ARD Operating, LLC; Pad ID: COP Tr 285 Pad C; ABR-201007062.R2; Grugan Township, Clinton County, Pa.; Consumptive Use of Up to 4.0000 mgd; Approval Date: July 28, 2021.

25. ARD Operating, LLC; Pad ID: COP Tr 357 Pad A; ABR-201007075.R2; Cummings Township, Lycoming County, Pa.; Consumptive Use of Up to 4.0000 mgd; Approval Date: July 28, 2021.

26. Chief Oil & Gas, LLC; Pad ID: Yonkin B Drilling Pad; ABR-201607003.R1; Cherry Township, Sullivan County, Pa.; Consumptive Use of Up to 2.5000 mgd; Approval Date: July 29, 2021.

27. Seneca Resources Company, LLC; Pad ID: DCNR 100 Pad E; ABR-201105009.R2; McIntyre Township, Lycoming County, Pa.; Consumptive Use of Up to 4.0000 mgd; Approval Date: July 29, 2021.

28. Seneca Resources Company, LLC; Pad ID: Sanchis 1129; ABR-201105017.R2; Farmington Township, Tioga County, Pa.; Consumptive Use of Up to 4.0000 mgd; Approval Date: July 30, 2021.

29. ARD Operating, LLC; Pad ID: Lycoming H&FC Pad E; ABR-201105013.R2; Cogan House Township, Lycoming County, Pa.; Consumptive Use of Up to 4.0000 mgd; Approval Date: July 30, 2021.

30. ARD Operating, LLC; Pad ID: COP Tract 728 Pad B; ABR-201106027.R2; Watson Township, Lycoming County, Pa.; Consumptive Use of Up to 4.0000 mgd; Approval Date: July 30, 2021.

31. ARD Operating, LLC; Pad ID: COP Tract 027B Pad A; ABR-201107030.R2; McHenry Township, Lycoming County, Pa.; Consumptive Use of Up to 4.0000 mgd; Approval Date: July 30, 2021.

Authority: Pub. L. 91-575, 84 Stat. 1509 et seq., 18 CFR parts 806, 807, and 808.

Dated: August 16, 2021.
Jason E. Oyler,
General Counsel and Secretary to the Commission.

[FR Doc. 2021-17810 Filed 8-18-21; 8:45 am]

BILLING CODE 7040-01-P